COMMODITY FUTURES TRADING COMMISSION

Sunshine Act Meetings

TIME AND DATE: 2 p.m., Wednesday, August 29, 2007.

PLACE: 1155 21st St., NW., Washington, DC, 9th Floor Commission Conference Room.

STATUS: Closed.

MATTERS TO BE CONSIDERED: Financial Surveillance Matters.

CONTACT PERSON FOR MORE INFORMATION: David A. Stawick, 202-418-5100.

David A. Stawick,
Secretary of the Commission.

[FR Doc. 07-3935 Filed 8-8-07; 8:45 am]

BILLING CODE 6351-01-M